DEPARTMENT OF ENERGY

Federal Energy Regulatory Commission

Combined Notice Of Filings #2

December 12, 2005.

Take notice that the Commission received the following electric rate filings.

Docket Numbers: ER00-2823-002.

Applicants: American Cooperative Services, Inc.

Description: American Cooperative Services, Inc submits revised rate schedule incorporating FERC's change in status provisions in compliance with the February 18, 2005 Order et al.

Filed Date: December 2, 2005.

Accession Number: 20051208-0060.

Comment Date: 5 p.m. Eastern Time on Friday, December 23, 2005.

Docket Numbers: ER02-1118-005.

Applicants: Continental Electric Cooperative Service.

Description: Continental Electric Cooperative Services, Inc submits revised rate schedule incorporating FERC's change in status provision in compliance with the February 18, 2005 Order et al.

Filed Date: December 2, 2005.

Accession Number: 20051207-0082.

Comment Date: 5 p.m. Eastern Time on Friday, December 23, 2005.

Docket Numbers: ER02-2605-004.

Applicants: Keystone Energy Group, Inc.

Description: Keystone Energy Group, Inc amends its December 31, 2002 filing to make corrections to its Market Based Rate, FERC Electric Schedule.

Filed Date: December 2, 2005.

Accession Number: 20051208-0065.

Comment Date: 5 p.m. Eastern Time on Friday, December 23, 2005.

Docket Numbers: ER03-1294-003.

Applicants: Energy Cooperative of New York, Inc.

Description: Energy Cooperative of New York, Inc submits revised Market-Based Rate Tariffs which include FERC's market behavior rules and change in status reporting requirement.

Filed Date: December 2, 2005.

Accession Number: 20051208-0061.

Comment Date: 5 p.m. Eastern Time on Friday, December 23, 2005.

Docket Numbers: ER05-1444-003.

Applicants: Midwest Independent Transmission System.

Description: Midwest Independent Transmission System Operator, Inc submits a supplement and errata to its November 23, 2005 Amendment to Filing of Large Generator Interconnection Agreement.

Filed Date: December 2, 2005.

Accession Number: 20051208-0067.

Comment Date: 5 p.m. Eastern Time on Friday, December 23, 2005.

Docket Numbers: ER05-1508-001.

Applicants: Midwest Independent Transmission System Operator, Inc.

Description: Midwest ISO submits an amendment to its September 26, 2005 executed Large Generator Interconnection Agreement with Power Partners Midwest, LLC, et al.

Filed Date: December 2, 2005.

Accession Number: 20051207-0061.

Comment Date: 5 p.m. Eastern Time on Friday, December 23, 2005.

Docket Numbers: ER05-508-004.

Applicants: ISO New England, Inc. and New England Power Pool.

Description: ISO New England Inc submits original transmittal letter and revised tariff sheet to Appendix H of Section III in response to the requirements of FERC's November 17, 2005 Order.

Filed Date: December 2, 2005.

Accession Number: 20051207-0081.

Comment Date: 5 p.m. Eastern Time on Friday, December 23, 2005.

Docket Numbers: ER06-28-001.

Applicants: PJM Interconnection, L.L.C.

Description: PJM Interconnection, LLC submits Substitute Revised Sheet 163 et al to correct minor errors in two of the revised sheets submitted on October 11, 2005 etc.

Filed Date: December 2, 2005.

Accession Number: 20051207-0084.

Comment Date: 5 p.m. Eastern Time on Friday, December 23, 2005.

Docket Numbers: ER06-126-001.

Applicants: Ohio Edison Company.

Description: Ohio Edison Co submits a revised notice of cancellation of Rate Schedule FERC No. 154 pursuant to the guidelines in FERC Order No. 614.

Filed Date: December 2, 2005.

Accession Number: 20051208-0068.

Comment Date: 5 p.m. Eastern Time on Friday, December 23, 2005.

Docket Numbers: ER06-128-001.

Applicants: Ohio Edison Company.

Description: Ohio Edison Co submits a revised notice of cancellation of Rate Schedule FERC No. 153 pursuant to the guidelines in FERC Order No. 614.

Filed Date: December 2, 2005.

Accession Number: 20051208-0066.

Comment Date: 5 p.m. Eastern Time on Friday, December 23, 2005.

Docket Numbers: ER06-152-001.

Applicants: Wisconsin Public Service Corporation.

Description: Wisconsin Public Service Corp submits a revised market-based rate tariff designated as its FERC Electric Tariff, Substitute Fourth Revised Volume No. 10 to become effective November 3, 2005.

Filed Date: December 2, 2005.

Accession Number: 20051207-0063.

Comment Date: 5 p.m. Eastern Time on Friday, December 23, 2005.

Docket Numbers: ER06-214-001.

Applicants: Power Bidding Strategies, LLC.

Description: Power Bidding Strategies, LLC submits Section XI to its petition for acceptance of initial rate schedule to clarify the ownership structure of its affiliates and resubmits FERC Electric Tariff No. 1.

Filed Date: December 2, 2005.

Accession Number: 20051208-0059.

Comment Date: 5 p.m. Eastern Time on Friday, December 23, 2005.

Docket Numbers: ER06-262-000.

Applicants: Pittsfield Generating Company, L.P.

Description: Pittsfield Generating Co LP submits the signed affidavits of Donald W Scholl & Malcolm R Ketchum to the unexecuted Reliability Must Run Agreement with Sempra Energy Trading Corp et al submitted on November 30, 2005.

Filed Date: December 1, 2005.

Accession Number: 20051207-0053.

Comment Date: 5 p.m. Eastern Time on Thursday, December 22, 2005.

Docket Numbers: ER06-276-000

Applicants: Alcoa Power Generating, Inc.

Description: Alcoa Power Generating, Inc—Tapoco Division submits FERC Electric Tariff, First Revised Volume No. 1, effective December 3, 2005.

Filed Date: December 2, 2005.

Accession Number: 20051206-0216.

Comment Date: 5 p.m. Eastern Time on Friday, December 23, 2005.

Docket Numbers: ER06-277-000

Applicants: NorthWestern Corporation

Description: NorthWestern Corp submits a notice of cancellation of its FERC Rate Schedule No.175 pursuant to effective January 1, 2006.

Filed Date: December 2, 2005.

Accession Number: 20051207-0057.

Comment Date: 5 p.m. Eastern Time on Friday, December 23, 2005.

Docket Numbers: ER06-279-000.

Applicants: NorthWestern Corporation.

Description: NorthWestern Corp submits a non-conforming Network Integration Transmission Service Agreements with the Bonneville Power Administration for service to its wholesale customers.

Filed Date: December 2, 2005.

Accession Number: 20051207-0079.

Comment Date: 5 p.m. Eastern Time on Friday, December 23, 2005.

Docket Numbers: ER06-280-000.

Applicants: ISO New England Inc.

Description: ISO New England Inc & the New England Power Pool Participants Committee jointly submit a transmittal letter and related materials, which proposed revision to certain Market Rule 1 terms.

Filed Date: December 2, 2005.

Accession Number: 20051207-0165.

Comment Date: 5 p.m. Eastern Time on Friday, December 23, 2005.

Docket Numbers: ER06-284-000.

Applicants: SR Energy, LLC.

Description: SR Energy, LLC submits an application for authority to sell electric power and related services at market based rates, to be effective January 1, 2006.

Filed Date: December 2, 2005.

Accession Number: 20051207-0068.

Comment Date: 5 p.m. Eastern Time on Friday, December 23, 2005.

Docket Numbers: ER06-285-000; ER06-286-000.

Applicants: Cincinnati Gas & Electric Company; PSI Energy, Inc.

Description: Cinergy Services, Inc on behalf of The Cincinnati Gas & Electric Co and PSI Energy submit a Legacy Contract Transition Agreement to be effective January 1, 2006.

Filed Date: December 1, 2005.

Accession Number: 20051207-0069.

Comment Date: 5 p.m. Eastern Time on Thursday, December 22, 2005.

Docket Numbers: ER95-802-021.

Applicants: IEP Power Marketing, LLC.

Description: IEP Power Marketing, LLC file market power analysis to comply with FERC's May 11, 1995 Order.

Filed Date: December 2, 2005.

Accession Number: 20051202-5008.

Comment Date: 5 p.m. Eastern Time on Friday, December 23, 2005.

Docket Numbers: ER98-4515-005.

Applicants: Cadillac Renewable Energy LLC.

Description: Cadillac Renewable Energy LLC submits Original Sheet Nos.1 thu 7 to its FERC Electric Tariff, First Revised Volume No. 1.

Filed Date: December 2, 2005.

Accession Number: 20051207-0062.

Comment Date: 5 p.m. Eastern Time on Friday, December 23, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7432 Filed 12-15-05; 8:45 am]

BILLING CODE 6717-01-P